DEPARTMENT OF THE TREASURY

Office of Foreign Assets Control

Notice of OFAC Sanctions Actions

AGENCY: Office of Foreign Assets Control, Treasury.

ACTION: Notice.

SUMMARY: The Department of the Treasury's Office of Foreign Assets Control (OFAC) is publishing the names of one or more persons and vessels that have been placed on OFAC's Specially Designated Nationals and Blocked Persons List based on OFAC's determination that one or more applicable legal criteria were satisfied. All property and interests in property subject to U.S. jurisdiction of these persons and these vessels are blocked, and U.S. persons are generally prohibited from engaging in transactions with them.

DATES: See SUPPLEMENTARY INFORMATION section.

FOR FURTHER INFORMATION CONTACT: OFAC: Associate Director for Global Targeting, tel.: 202-622-2420; Assistant Director for Sanctions Compliance & Evaluation, tel.: 202-622-2490; Assistant Director for Licensing, tel.: 202-622-2480; Assistant Director for Regulatory Affairs, tel. 202-622-4855; or the Department of the Treasury's Office of the General Counsel: Office of the Chief Counsel (Foreign Assets Control), tel.: 202-622-2410.

SUPPLEMENTARY INFORMATION:

Electronic Availability

The Specially Designated Nationals and Blocked Persons List and additional information concerning OFAC sanctions programs are available on OFAC's website (www.treasury.gov/ofac).

Notice of OFAC Action(s)

On February 26, 2018, OFAC determined that the property and interests in property subject to U.S. jurisdiction of the following persons and the following vessels subject to U.S. jurisdiction are blocked under the relevant sanctions authority listed below.

Individuals

1. DEBONO, Darren, 3 Saint Joseph, Saint Anthony Street, San Gwann, Malta; 22 Mensija St., San Gwann, Malta; DOB 09 Jan 1974; nationality Malta; citizen Malta; Gender Male; Passport 1071341 (Malta); National ID No. 049474M (Malta) (individual) [LIBYA3].

Designated pursuant to Section 1(a)(i)(D)(iv) of Executive Order 13726 of April 19, 2016, “Blocking Property and Suspending Entry Into the United States of Persons Contributing to the Situation in Libya” (E.O. 13726) for being involved in, or having been involved in, the illicit exploitation of crude oil or any other natural resources in Libya, including the illicit production, refining, brokering, sale, purchase, or export of Libyan oil.

2. DEBONO, Gordon, 18, Drive 41, Tumas Galea Street Ta'Paris, Birkirkara, Malta; DOB 07 May 1974; POB Malta; nationality Malta; Gender Male; Passport 354841 (Malta); National ID No. 234574M (Malta) (individual) [LIBYA3].

Designated pursuant to Section 1(a)(i)(D)(iv) of E.O. 13726 for being involved in, or having been involved in, the illicit exploitation of crude oil or any other natural resources in Libya, including the illicit production, refining, brokering, sale, purchase, or export of Libyan oil.

3. BEN KHALIFA, Fahmi (a.k.a. AL IDRISI, Fehmi Abu Zaid Salem; a.k.a. BEN KHALIFA, Fahmi Mousa Saleem; a.k.a. BIN KHALIFA, Fahmi; a.k.a. SALEM, al Idrisi Fehmi Abu Zaid; a.k.a. “Fahmi Slim”; a.k.a. “King of Zawarah”), Sarage El Islam, Tripoli, Libya; Zuwarah, Libya; DOB 02 Jan 1972; nationality Libya; Gender Male; National ID No. 560147C (Libya) (individual) [LIBYA3].

Designated pursuant to Section 1(a)(i)(D)(iv) of E.O. 13726 for being involved in, or having been involved in, the illicit exploitation of crude oil or any other natural resources in Libya, including the illicit production, refining, brokering, sale, purchase, or export of Libyan oil.

4. ARAFA, Ahmed Ibrahim Hassan Ahmed (a.k.a. ARAFA, Ahmed; ARAFA, Ahmed Ibrahim Hassab; a.k.a. ARAFA, Ahmed Ibrahim Hassan; a.k.a. SELEM, Ahmed Conami), 22 Mensija Street, San Gwann, Malta; 8, Simoha, Alexandria, Egypt; DOB 04 Jan 1976; POB Egypt; nationality Egypt; citizen Egypt; alt. citizen Malta; Gender Male; National ID No. 46447A (Malta) (individual) [LIBYA3].

Designated pursuant to Section 1(a)(i)(D)(iv) of E.O. 13726 for being involved in, or having been involved in, the illicit exploitation of crude oil or any other natural resources in Libya, including the illicit production, refining, brokering, sale, purchase, or export of Libyan oil.

5. GRECH, Rodrick (a.k.a. GRECH, Roderick), Semper Grove, F1 3A, Triq il-Qala, Qala—Gozo, Malta; DOB 12 Aug 1981; nationality Malta; citizen Malta; Gender Male; Passport 1172183 (Malta); National ID No. 0476781M (Malta) (individual) [LIBYA3].

Designated pursuant to Section 1(a)(i)(D)(iv) of E.O. 13726 for being involved in, or having been involved in, the illicit exploitation of crude oil or any other natural resources in Libya, including the illicit production, refining, brokering, sale, purchase, or export of Libyan oil.

6. MICALLEF, Terence (a.k.a. MICALLEF, Terrence), 31 Fawwara Ct. Flat 3, Turu Rizzo St., Gzira, Malta; DOB 25 Jan 1985; POB Malta; nationality Malta; citizen Malta; Gender Male; Passport 1018185 (Malta) issued 01 Sep 2011; National ID No. 087385M (Malta) (individual) [LIBYA3].

Designated pursuant to Section 1(a)(i)(D)(iv) of E.O. 13726 for being involved in, or having been involved in, the illicit exploitation of crude oil or any other natural resources in Libya, including the illicit production, refining, brokering, sale, purchase, or export of Libyan oil.

Entities

1. SEABRASS LIMITED, Level 8/5B, Portomaso Business Tower, St. Julians, Malta; D-U-N-S Number 53-400-4431; Trade License No. C 76394 (Malta) [LIBYA3] (Linked To: DEBONO, Gordon).

Designated pursuant to Section 1(a)(i)(D)(vii) of E.O. 13726 for being owned or controlled by Gordon Debono, a person whose property and interests in property are blocked pursuant to E.O. 13726.

2. TARA LIMITED, Level 8/5B, Portomaso Business Tower, St. Julians, Malta; D-U-N-S Number 53-400-4252; Trade License No. C 76396 (Malta) [LIBYA3] (Linked To: DEBONO, Gordon).

Designated pursuant to Section 1(a)(i)(D)(vii) of E.O. 13726 for being owned or controlled by Gordon Debono, a person whose property and interests in property are blocked pursuant to E.O. 13726.

3. KRAKERN LIMITED, Level 8/5B Portomaso Business Tower, St. Julians, Malta; D-U-N-S Number 53-400-4559; Trade License No. C 76398 (Malta) [LIBYA3] (Linked To: DEBONO, Gordon).

Designated pursuant to Section 1(a)(i)(D)(vii) of E.O. 13726 for being owned or controlled by Gordon Debono, a person whose property and interests in property are blocked pursuant to E.O. 13726.

4. ADJ TRADING LIMITED (f.k.a. ADJ SWORDFISH LIMITED; a.k.a. ADJ TRADING), 22 Mensjia Street, San Gwann SGN 1608, Malta; PO Box 105, 1045, Majuro, Marshall Islands; D-U-N-S Number 52-023-7366; Tax ID No. 18589120 (Malta); Trade License No. C 41310 (Malta) [LIBYA3] (Linked To: DEBONO, Darren; Linked To: ARAFA, Ahmed Ibrahim Hassan Ahmed; Linked To: BEN KHALIFA, Fahmi).

Designated pursuant to Section 1(a)(i)(D)(iv) of E.O. 13726 for being involved in, or having been involved in, the illicit exploitation of crude oil or any other natural resources in Libya, including the illicit production, refining, brokering, sale, purchase, or export of Libyan oil.

Also designated pursuant to Section 1(a)(i)(D)(vii) for being owned or controlled by Darren Debono, Ahmed Ibrahim Hassan Ahmed Arafa, and Fahmi Ben Khalifa, persons whose property and interests in property are blocked pursuant to E.O. 13726.

5. MALTA DIRECTORIES LTD., The Business Centre, Valley Road, Msida MSD 9060, Malta; Oakdene Mediatrix Place, Zabbar, Malta; D-U-N-S Number 53-499-4520; V.A.T. Number MT15561628 (Malta); Tax ID No. 15561628 (Malta); Trade License No. C 25186 (Malta) [LIBYA3] (Linked To: DEBONO, Gordon).

Designated pursuant to Section 1(a)(i)(D)(vii) of E.O. 13726 for being owned or controlled by Gordon Debono, a person whose property and interests in property are blocked pursuant to E.O. 13726.

6. PETROPARK S.R.L., Via Giovanni Lavaggi 152, Augusta (Siracusa) 96011, Italy; Via Unione Sovietica 4, Siracusa 96100, Italy; D-U-N-S Number 33-843-5672; V.A.T. Number IT08497661002 (Italy); Tax ID No. 08497661002 (Italy); Trade License No. SR 140256 (Italy) [LIBYA3] (Linked To: DEBONO, Gordon).

Designated pursuant to Section 1(a)(i)(D)(vii) of E.O. 13726 for being owned or controlled by Gordon Debono, a person whose property and interests in property are blocked pursuant to E.O. 13726.

7. HI-LOW PROPERTIES LTD., The Business Centre, Valley Road, Msida MSD 9060, Malta; D-U-N-S Number 52-024-2258; Trade License No. C 38094 (Malta) [LIBYA3] (Linked To: DEBONO, Gordon).

Designated pursuant to Section 1(a)(i)(D)(vii) of E.O. 13726 for being owned or controlled by Gordon Debono, a person whose property and interests in property are blocked pursuant to E.O. 13726.

8. MR HANDYMAN LTD, The Business Centre, Valley Road, Msida MSD 9060, Malta; D-U-N-S Number 36-025-1842; V.A.T. Number MT16905829 (Malta); Tax ID No. 16905829 (Malta); Trade License No. C 32519 (Malta) [LIBYA3] (Linked To: DEBONO, Gordon).

Designated pursuant to Section 1(a)(i)(D)(vii) of E.O. 13726 for being owned or controlled by Gordon Debono, a person whose property and interests in property are blocked pursuant to E.O. 13726.

9. S-CAPE YACHT CHARTER LIMITED, Level 8/5B Portomaso Business Tower, St. Julians, Malta; D-U-N-S Number 53-400-5656; V.A.T. Number MT23786021 (Malta); Tax ID No. 23786021 (Malta); Trade License No. C 77444 (Malta) [LIBYA3] (Linked To: DEBONO, Gordon).

Designated pursuant to Section 1(a)(i)(D)(vii) of E.O. 13726 for being owned or controlled by Gordon Debono, a person whose property and interests in property are blocked pursuant to E.O. 13726.

10. S-CAPE LIMITED, Level 8, Office 5B Portomaso Business Tower, St. Julians STJ4011, Malta; D-U-N-S Number 53-400-5153; Trade License No. C 77446 (Malta) [LIBYA3] (Linked To: DEBONO, Gordon).

Designated pursuant to Section 1(a)(i)(D)(vii) of E.O. 13726 for being owned or controlled by Gordon Debono, a person whose property and interests in property are blocked pursuant to E.O. 13726.

11. OCEANO BLU TRADING LIMITED (f.k.a. PESCA MEDITERRANEA LIMITED), Flat 2, Merill Court, Fuxa Street, San Gwann SGN 1308, Malta; D-U-N-S Number 52-023-2342; V.A.T. Number MT21195831 (Malta); Tax ID No. 21195831 (Malta); Trade License No. C 58157 (Malta) [LIBYA3].

Designated pursuant to Section 1(a)(i)(D)(iv) of E.O. 13726 for being involved in, or having been involved in, the illicit exploitation of crude oil or any other natural resources in Libya, including the illicit production, refining, brokering, sale, purchase, or export of Libyan oil.

12. ELEVEN EIGHTY EIGHT LIMITED (f.k.a. PAR EXCELLENCE LIMITED), 18, Drive 41, Tumas Galea Street, Ta' Paris, Birkirkara BKR 04, Malta; D-U-N-S Number 52-028-0154; V.A.T. Number MT14324830 (Malta); Tax ID No. 14324830 (Malta); Trade License No. C 19763 (Malta) [LIBYA3] (Linked To: DEBONO, Gordon).

Designated pursuant to Section 1(a)(i)(D)(vii) of E.O. 13726 for being owned or controlled by Gordon Debono, a person whose property and interests in property are blocked pursuant to E.O. 13726.

13. MARIE DE LOURDES COMPANY LIMITED, 22 Mensija Street, San Gwann SGN 1432, Malta; D-U-N-S Number 52-023-7373; Tax ID No. 21195703 (Malta); Trade License No. C 58194 (Malta) [LIBYA3] (Linked To: DEBONO, Darren).

Designated pursuant to Section 1(a)(i)(D)(vii) of E.O. 13726 for being owned or controlled by Darren Debono, a person whose property and interests in property are blocked pursuant to E.O. 13726.

14. WORLD WATER FISHERIES LIMITED (f.k.a. IL-BRAZZOL), 10 Quarry Garage, Gharghur, Malta; 22 Mensija Road, San Gwann SGN 1432, Malta; 6/13, Ibragg road, Tal-Balal, Swieqi, Malta; D-U-N-S Number 56-558-7594; V.A.T. Number MT15388917 (Malta); Trade License No. C 24129 (Malta); Company Number 4220856 [LIBYA3] (Linked To: DEBONO, Darren).

Designated pursuant to Section 1(a)(i)(D)(vii) of E.O. 13726 for being owned or controlled by Darren Debono, a person whose property and interests in property are blocked pursuant to E.O. 13726.

15. GORGE LIMITED, Level 8/5B, Portomaso Business Tower, St. Julians, Malta; D-U-N-S Number 53-400-4151; Trade License No. C 76400 (Malta) [LIBYA3] (Linked To: DEBONO, Gordon).

Designated pursuant to Section 1(a)(i)(D)(vii) of E.O. 13726 for being owned or controlled by Gordon Debono, a person whose property and interests in property are blocked pursuant to E.O. 13726.

16. ANDREA MARTINA LIMITED, 22 Mensija Road, San Gwann SGN 1608, Malta; D-U-N-S Number 52-024-7549; Tax ID No. 18589029 (Malta); Trade License No. C 41309 (Malta); Company Number 5886249 (Malta) [LIBYA3] (Linked To: DEBONO, Darren).

Designated pursuant to Section 1(a)(i)(D)(vii) of E.O. 13726 for being owned or controlled by Darren Debono, a person whose property and interests in property are blocked pursuant to E.O. 13726.

17. PETROPLUS LTD (a.k.a. PETRO PLUS LIMITED; f.k.a. TIKO TIKO LTD.), Office 5B, Level 8, Portomaso Business Tower, Portomaso Avenue, St. Julians STJ 4011, Malta; D-U-N-S Number 52-024-2307; V.A.T. Number MT20084637 (Malta); Tax ID No. 20084637 (Malta); Trade License No. C 50905 (Malta) [LIBYA3] (Linked To: DEBONO, Gordon).

Designated pursuant to Section 1(a)(i)(D)(vii) of E.O. 13726 for being owned or controlled by Gordon Debono, a person whose property and interests in property are blocked pursuant to E.O. 13726.

18. SCOGLITTI RESTAURANT, 8, Boat Street Marsamxett, Valletta, Malta; website www.scoglittimalta.com [LIBYA3] (Linked To: DEBONO, Darren).

Designated pursuant to Section 1(a)(i)(D)(vii) of E.O. 13726 for being owned or controlled by Darren Debono, a person whose property and interests in property are blocked pursuant to E.O. 13726.

19. THE BUSINESS CENTRE LTD. (a.k.a. THE BUSINESS CENTRE LIMITED), The Business Centre, Valley Road, Msida MSD 9060, Malta; D-U-N-S Number 56-556-9269; V.A.T. Number MT11366525 (Malta); Tax ID No. 11366525 (Malta); Trade License No. C 17918 (Malta) [LIBYA3] (Linked To: DEBONO, Gordon).

Designated pursuant to Section 1(a)(i)(D)(vii) of E.O. 13726 for being owned or controlled by Gordon Debono, a person whose property and interests in property are blocked pursuant to E.O. 13726.

20. INOVEST LIMITED (f.k.a. LEISURE HOLIDAYS LIMITED), 18, Drive 41, Tumas Galea Street, Ta'Paris, Birkirkara BKR 04, Malta; D-U-N-S Number 52-023-9744; V.A.T. Number MT14324921 (Malta); Tax ID No. 14324921 (Malta); Trade License No. C 19766 (Malta) [LIBYA3] (Linked To: DEBONO, Gordon).

Designated pursuant to Section 1(a)(i)(D)(vii) of E.O. 13726 for being owned or controlled by Gordon Debono, a person whose property and interests in property are blocked pursuant to E.O. 13726.

21. TIUBODA OIL AND GAS SERVICES (a.k.a. TIUBODA OIL AND GAS SERVICES LLC; a.k.a. TIUBODA OIL SERVICES LIMITED), Al Nasr Street, Tarabulus, Tripoli 82874, Libya; Tax ID No. 18571; Trade License No. 41992 (Libya); License 4541992 [LIBYA3].

Designated pursuant to Section 1(a)(i)(D)(iv) of E.O. 13726 for being involved in, or having been involved in, the illicit exploitation of crude oil or any other natural resources in Libya, including the illicit production, refining, brokering, sale, purchase, or export of Libyan oil.

22. KB LINES LIMITED (a.k.a. KB LINES LTD.), Office 5B, Level 8, Portomaso Tower, St. Julians STJ 4011, Malta; D-U-N-S Number 53-400-0843; V.A.T. Number MT23058705 (Malta); Tax ID No. 23058705 (Malta); Trade License No. C 73647 (Malta); Company Number 5905876 (Malta) [LIBYA3] (Linked To: DEBONO, Gordon).

Designated pursuant to Section 1(a)(i)(D)(vii) of E.O. 13726 for being owned or controlled by Gordon Debono, a person whose property and interests in property are blocked pursuant to E.O. 13726.

23. MOTORCYCLE ART LTD., 18 Drive 41, Thomas Galea Street, Ta' Paris, Birkirkara, Malta; D-U-N-S Number 52-024-7665; V.A.T. Number MT18975718 (Malta); Tax ID No. 18975718 (Malta); Trade License No. C 44063 (Malta) [LIBYA3] (Linked To: DEBONO, Gordon).

Designated pursuant to Section 1(a)(i)(D)(vii) of E.O. 13726 for being owned or controlled by Gordon Debono, a person whose property and interests in property are blocked pursuant to E.O. 13726.

24. KB INVESTMENTS LIMITED, Office 5B, Level 8, Portomaso Business Tower, Portomaso Avenue, St Julians STJ 4011, Malta; D-U-N-S Number 53-399-9713; Trade License No. C 72745 (Malta) [LIBYA3] (Linked To: DEBONO, Gordon).

Designated pursuant to Section 1(a)(i)(D)(vii) of E.O. 13726 for being owned or controlled by Gordon Debono, a person whose property and interests in property are blocked pursuant to E.O. 13726.

Vessels

1. PROGRES (a.k.a. OZEL 2) (9HB4398) Malta flag; Other Vessel Flag Tanzania; alt. Other Vessel Flag Trinidad and Tobago; Other Vessel Call Sign 5IM713; Vessel Registration Identification IMO 8023670 (vessel) [LIBYA3] (Linked To: ANDREA MARTINA LIMITED).

Identified pursuant to E.O. 13726 as property in which ANDREA MARTINA LIMITED, an entity whose property and interests in property are blocked pursuant to E.O. 13726, has an interest.

2. BONU 5; Vessel Registration Identification IMO 15411 (vessel) [LIBYA3] (Linked To: ANDREA MARTINA LIMITED).

Identified pursuant to E.O. 13726 as property in which ANDREA MARTINA LIMITED, an entity whose property and interests in property are blocked pursuant to E.O. 13726, has an interest.

3. MARIE DE LOURDES (9HB3103) Malta flag; Vessel Registration Identification IMO 8688171; MMSI 249000882 (vessel) [LIBYA3] (Linked To: WORLD WATER FISHERIES LIMITED).

Identified pursuant to E.O. 13726 as property in which WORLD WATER FISHERIES LIMITED, an entity whose property and interests in property are blocked pursuant to E.O. 13726, has an interest.

4. MARIE DE LOURDES I (9HB3737) Malta flag; Vessel Registration Identification IMO 8688183; MMSI 248000368 (vessel) [LIBYA3] (Linked To: WORLD WATER FISHERIES LIMITED).

Identified pursuant to E.O. 13726 as property in which WORLD WATER FISHERIES LIMITED, an entity whose property and interests in property are blocked pursuant to E.O. 13726, has an interest.

5. MARIE DE LOURDES V (a.k.a. MDL 5) (9HB5604) Malta flag; Vessel Registration Identification IMO 9809277; MMSI 215000818 (vessel) [LIBYA3] (Linked To: WORLD WATER FISHERIES LIMITED).

Identified pursuant to E.O. 13726 as property in which WORLD WATER FISHERIES LIMITED, an entity whose property and interests in property are blocked pursuant to E.O. 13726, has an interest.

6. ZEUS (9H5319) Malta flag; Vessel Registration Identification IMO 04714 (vessel) [LIBYA3] (Linked To: ANDREA MARTINA LIMITED).

Identified pursuant to E.O. 13726 as property in which ANDREA MARTINA LIMITED, an entity whose property and interests in property are blocked pursuant to E.O. 13726, has an interest.

7. THEODOROS; Vessel Registration Identification IMO 6421660 (vessel) [LIBYA3] (Linked To: ADJ TRADING LIMITED).

Identified pursuant to E.O. 13726 as property in which ADJ TRADING LIMITED, an entity whose property and interests in property are blocked pursuant to E.O. 13726, has an interest.

Dated: February 26, 2018.
John E. Smith,
Director, Office of Foreign Assets Control.

[FR Doc. 2018-04220 Filed 3-1-18; 8:45 am]

BILLING CODE 4810-AL-P